DEPARTMENT OF AGRICULTURE

Grain Inspection, Packers and Stockyards Administration

7 CFR Part 868

RIN 0580-AB17

[Docket # GIPSA-2010-FGIS-0009]

Request for Public Comment on the United States Standards for Rough Rice, Brown Rice for Processing, and Milled Rice

AGENCY: Grain Inspection, Packers and Stockyards Administration, USDA

ACTION: Advance notice of proposed rulemaking.

SUMMARY: The Department of Agriculture's (USDA) Grain Inspection, Packers, and Stockyards Administration (GIPSA) is reviewing the United States Standards and grading procedures for Rough Rice, Brown Rice for Processing, and Milled Rice under the Agriculture Marketing Act of 1946 (AMA). Since the standards were last revised, numerous changes have occurred in the breeding and production practices of rice; the technology used to harvest, process, and test rice; and also rice marketing. To ensure that standards and official grading practices remain relevant, GIPSA invites interested parties to comment on whether the current rice standards and grading procedures need to be changed.

DATES: Comments must be received on or before December 16, 2010.

ADDRESSES: You may submit your written or electronic comments on this notice to:

• Mail: Tess Butler, GIPSA, USDA, 1400 Independence Avenue, SW., Room 1643-S, Washington, DC 20250-3604.

• E-Mail: comments.gipsa@usda.gov.

• Fax: (202) 690-2173

• Internet: Go to http://www.regulations.gov and follow the on-line instruction for submitting comments.

All comments will become a matter of public record and should be identified as “United States Standards for Rough Rice, Brown Rice for Processing, and Milled Rice Notice Comments,” making reference to the date and page number of this issue of the Federal Register. Comments will be available for public inspection in the above office during regular business hours (7 CFR 1.27(b)). Please call the GIPSA Management Support Staff at (202) 720-7486 to make an appointment to read comments received.

FOR FURTHER INFORMATION CONTACT: Beverly A. Whalen at GIPSA, USDA, Beacon Facility, Stop 1404, P.O. Box 419205, Kansas City, MO 64131-6205; Telephone: (816) 823-4648; Fax Number: (816) 823-4644; e-mail: Beverly.A.Whalen@usda.gov.

SUPPLEMENTARY INFORMATION:

Executive Order 12866

This rule has been determined to be exempt for the purposes of Executive Order 12866, and therefore has not been reviewed by the Office of Management and Budget (OMB).

Under the authority of the AMA (7 U.S.C. 1621-1627), as amended, GIPSA establishes and maintains a variety of quality and grade standards for agricultural commodities that define commodity quality in the domestic and global marketplace. Standards developed by GIPSA under the AMA include rice, whole dry peas, split peas, feed peas, lentils, and beans. The AMA standards are voluntary and widely used in private contracts, government procurement, marketing communication, and, for some commodities, consumer information. The U.S. Standards for Rough Rice, Brown Rice for Processing, and Milled Rice standards were last revised in 1993 (58 FR 68015) and appear in the regulations at 7 CFR 868.202-868.316. The standards facilitate the marketing of rice in foreign and domestic trade, and provide a uniform measure of quality by providing a common language to describe commodity attributes for U.S. producers, exporters and their customers. Official procedures for inspections are provided in GIPSA's Rice Inspection Handbook for determining the various grading factors. To learn more about Rough Rice, Brown Rice for Processing, and Milled Rice standardization and quality, visit the GIPSA Web site at http://www.gipsa.usda.gov.

GIPSA inspects shipments of rice in accordance with AMA standards to establish the grade of the rice and issues inspection certificates for each shipment. GIPSA-issued certificates describing the quality and condition of graded rice are accepted as prima facie evidence in all Federal courts (7 U.S.C 1622(h). U.S. rice standards and the affiliated grading and testing services offered by GIPSA verify that a seller's rice meets specified requirements, and ensure that customers receive the quality of rice they purchased. In addition to Federal usage, the rice standards are applied by one State and one private cooperator.

In order for U.S. standards and grading procedures for Rough Rice, Brown Rice for Processing, and Milled Rice to remain relevant, GIPSA is issuing this advance notice of proposed rulemaking to invite interested parties to submit comments, ideas, and suggestions on all aspects of the U.S. rice standards and grading procedures.

Authority: 7 U.S.C. 1621-1627.

J. Dudley Butler,
Administrator, Grain Inspection, Packers and Stockyards Administration.

[FR Doc. 2010-23188 Filed 9-16-10; 8:45 am]

BILLING CODE 3410-KD-P